FEDERAL COMMUNICATIONS COMMISSION

47 CFR Part 73

[DA 01-379, MM Docket No. 00-177, RM-9954]

Digital Television Broadcast Service; Rapid City, SD

AGENCY: Federal Communications Commission.

ACTION: Final rule.

SUMMARY: The Commission, at the request of Duhamel Broadcasting Enterprise, licensee of station KOTA-TV, substitutes DTV channel 2 for DTV channel 22 at Rapid City. See 65 FR 59388, October 5, 2000. DTV channel 2 can be allotted to Rapid City in compliance with the principle community coverage requirements of Section 73.625(a) at reference coordinates 44-04-08 N. and 103-15-03 W. with a power of 8.0, HAAT of 174 meters and with a DTV service population of 124 thousand.

With this action, this proceeding is terminated.

DATES: Effective April 2, 2001.

FOR FURTHER INFORMATION CONTACT: Pam Blumenthal, Mass Media Bureau, (202) 418-1600.

SUPPLEMENTARY INFORMATION: This is a synopsis of the Commission's Report and Order, MM Docket No. 00-177, adopted February 14, 2001, and released February 15, 2001. The full text of this Commission decision is available for inspection and copying during normal business hours in the FCC Reference Center 445 12th Street, SW., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

47 CFR PART 73—[AMENDED]

1. The authority citation for Part 73 continues to read as follows:

Authority: 47 U.S.C. 154, 303, 334, 336.

Section 73.622 [Amended]

2. Section 73.622(b), the Table of Digital Television Allotments under South Dakota is amended by removing DTV channel 22 and adding DTV channel 2 at Rapid City.

Federal Communications Commission.
Barbara A. Kreisman,
Chief, Video Services Division, Mass Media Bureau.

[FR Doc. 01-4328 Filed 2-21-01; 8:45 am]

BILLING CODE 6712-01-P